DEPARTMENT OF THE INTERIOR

National Park Service

[NPS-WASO-NAGPRA-NPS0037135; PPWOCRADN0-PCU00RP14.R50000]

Notice of Intent To Repatriate Cultural Items: University of Georgia, Laboratory of Archaeology, Athens, GA

AGENCY: National Park Service, Interior.

ACTION: Notice.

SUMMARY: In accordance with the Native American Graves Protection and Repatriation Act (NAGPRA), the University of Georgia, Laboratory of Archaeology intends to repatriate certain cultural items that meet the definition of unassociated funerary objects and that have a cultural affiliation with the Indian Tribes or Native Hawaiian organizations in this notice. The cultural items were removed from Dade County, GA.

DATES: Repatriation of the cultural items in this notice may occur on or after January 22, 2024.

ADDRESSES: Amanda Thompson, University of Georgia, Laboratory of Archaeology, 1125 Whitehall Road, Athens, GA 30605, telephone (706) 542-8737, email arobthom@uga.edu.

SUPPLEMENTARY INFORMATION: This notice is published as part of the National Park Service's administrative responsibilities under NAGPRA. The determinations in this notice are the sole responsibility of the University of Georgia, Laboratory of Archaeology. The National Park Service is not responsible for the determinations in this notice. Additional information on the determinations in this notice, including the results of consultation, can be found in the summary or related records held by the University of Georgia, Laboratory of Archaeology.

Description

The 2,991 unassociated funerary objects cultural items were removed from sites 9DD25 and 9DD57 in Dade County, GA.

The first site is 9DD25 in Dade County, GA, located near Trenton, GA, a few hundred yards east of Lookout Creek and several miles south of the junction of Lookout Creek and the Tennessee River was excavated during a University of Georgia (UGA) field school in 1973, by Joseph R. Caldwell and Richard W. Jefferies. All eight of the mounds at the Tunacunnhee site were tested during the 1973 field season, with a total area of 8,000 ft. uncovered during excavation. The collection was then housed at the University of Georgia, Laboratory of Archaeology. The 2,502 unassociated funerary objects include: Possibly associated with Burial 7—lithics, ceramics, celt, lithic flakes, faunal, fossil bead, and faunal; Possibly associated with Burial 8—lithics, lithic worked, lithic PPK, ceramics, and faunal; Burial 9A, Mound A—copper band fragment; Burial 10—alligator tooth, stones, and UID “gallstones”; Possibly associated with Burial 12—copper fragments; Mound C, Feature 30—copper flakes, bone beads, shark vertebrae beads, animal teeth, drilled shark vertebrae, drilled shark teeth, faunal, pebbles from near bone rattle, backed chert knife, copper pin w/wooden head, copper flake, cast of fiber plate with impression, copper plate with fiber impressions, copper plate fragments and microslide, copper earspools, and woven material and fiber; Burial 15A, Mound C, Feature 31—PPKs, fragmented material associated with pan pipe, copper pan pipe, shell fragments, copper fragments, and soil from inside pipe; Burial 16 Mound A—copper earspool (w/microslide); Unknown burials from Mound context—lithics, lithic PPK, lithics worked, ceramic, faunal, UID metal, burned clay and bone mix, soil, charcoal, plain vessel, material under pan pipe, copper earspool fragments, Flint Ridge Ohio blade, shell, shell bead necklace, mica, and lithic spade/hoe.

The site 9DD57 was identified during a survey conducted by Bruce Smith in 1975. At the time the site was surveyed, a collection was made from the surface of the cave as well as test pits and areas just outside the cave. The collection was then housed at the University of Georgia, Laboratory of Archaeology. The 489 unassociated funerary objects include: lithics, hammerstone, faunal bone, shell, burned nut shell, peach pits, burned wood/charcoal, bone pin fragment, and eagle raptor talon.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: geographical information.

Determinations

Pursuant to NAGPRA and its implementing regulations, and after consultation with the appropriate Indian Tribes and Native Hawaiian organizations, University of Georgia, Laboratory of Archaeology has determined that:

• The 2,991 cultural items described above are reasonably believed to have been placed with or near individual human remains at the time of death or later as part of the death rite or ceremony and are believed, by a preponderance of the evidence, to have been removed from a specific burial site of a Native American individual.

• There is a relationship of shared group identity that can be reasonably traced between the cultural items and The Muscogee (Creek) Nation.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 22, 2024. If competing requests for repatriation are received, University of Georgia, Laboratory of Archaeology must determine the most appropriate requestor prior to repatriation. Requests for joint repatriation of the cultural items are considered a single request and not competing requests. The University of Georgia, Laboratory of Archaeology is responsible for sending a copy of this notice to the Indian Tribes and Native Hawaiian organizations identified in this notice.

Authority: Native American Graves Protection and Repatriation Act, 25 U.S.C. 3003, and the implementing regulations, 43 CFR 10.8, 10.10, and 10.14.

Dated: December 13, 2023.
Melanie O'Brien,
Manager, National NAGPRA Program.

[FR Doc. 2023-28188 Filed 12-21-23; 8:45 am]

BILLING CODE 4312-50-P